DEPARTMENT OF ENERGY

Federal Energy Regulatory Commission

[Docket No. ER01-362-000]

Southern Energy Delta, L.L.C., Southern Energy Potrero, L.L.C.; Notice of Filing

November 13, 2000.

Take notice that on November 3, 2000, Southern Energy Delta, L.L.C. (SE Delta), and Southern Energy Potrero, L.L.C. (SE Potrero), tendered for filing revised tariff sheets to the Must-Run Service Agreements between SE Delta, SE Potrero, and the California Independent System Operator Corporation. The revisions include changes to the: (i) Contract Service Limits, (ii) Hourly Availability Charges and Penalty Rates, and (iii) projected outage information for the generating units owned by SE Delta and SE Potrero, for the year beginning January 1, 2001, as well as corrections to certain typographical errors.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before November 24, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See 18 CFR 385.2001(a)(1)(iii) and the instructions on the Commission's web site at http://www.ferc.fed.us/efi/doorbell.htm.

Linwood A. Watson, Jr.,
Acting Secretary.

[FR Doc. 00-29591 Filed 11-17-00; 8:45 am]

BILLING CODE 6717-01-M